DEPARTMENT OF THE INTERIOR

Bureau of Indian Affairs

[245A2100DD/AAKC001030/A0A501010.999900]

Indian Gaming; Extension of Tribal-State Class III Gaming Compacts in California

AGENCY: Bureau of Indian Affairs, Interior.

ACTION: Notice.

SUMMARY: This notice announces the extension of the Class III gaming compacts between three Tribes in California and the State of California.

DATES: The extension takes effect on December 28, 2023.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: An extension to an existing Tribal-State Class III gaming compact does not require approval by the Secretary if the extension does not modify any other terms of the compact. 25 CFR 293.5. The following Tribes and the State of California have reached an agreement to extend the expiration date of their existing Tribal-State Class III gaming compacts to December 31, 2024: the Berry Creek Rancheria of Maidu Indians of California; the Resighini Rancheria, California; and the Manchester Band of Pomo Indians of the Manchester Rancheria, California. This publication provides notice of the new expiration date of the compacts.

Kathryn Isom-Clause,
Deputy Assistant Secretary—Indian Affairs for Policy and Economic Development, Exercising by delegation the authority of the Assistant Secretary—Indian Affairs.

[FR Doc. 2023-28711 Filed 12-27-23; 8:45 am]

BILLING CODE 4337-15-P